DEPARTMENT OF THE INTERIOR

National Park Service

Notice of Availability of a Draft Environmental Impact Statement/General Management Plan, Big Bend National Park, Texas

SUMMARY: Pursuant to section 102 (2) (C) of the National Environmental Policy Act of 1969, 42 U.S.C. 4332 (C), the National Park Service announces the availability of a Draft Environmental Impact Statement for a General Management Plan (DEIS/GMP) for Big Bend National Park, Texas.

DATES: The National Park Service will accept comments from the public on the Draft Environmental Impact Statement through 60 days from the date of this notice. Public meetings will be held but have not been scheduled at this time. Dates, times and locations will be announced in the local media.

ADDRESSES: Copies of the DEIS/GMP are available from the Superintendent, Big Bend National Park, P.O. Box 129, Big Bend National Park, Texas 79834. Public reading copies of the DEIS/GMP will be available for review at the following locations: Office of the Superintendent, Park Headquarters (Administration Office), Big Bend National Park, P.O. Box 129, Big Bend National Park, Texas 79834. Telephone: (915) 477-1101.

Planning and Environmental Quality, Intermountain Support Office—Denver, National Park Service, 12795 West Alameda Parkway, P.O. Box 25287, Denver, CO 80225-0287. Telephone: (303) 969-2851 (or (303) 969-2377).

Office of Public Affairs, National Park Service, Department of the Interior, 18th and C Streets, NW., Room 7012, Washington, DC 20240. Telephone: (202) 208-6843.

FOR FURTHER INFORMATION CONTACT: Superintendent or Management Assistant, Big Bend National Park at the above address and telephone numbers.

SUPPLEMENTARY INFORMATION: If you wish to comment you may submit your comments by any one of several methods. You may mail comments to Superintendent, P.O. Box 129, Big Bend National Park, Texas 79834. You may comment via the Internet to BIBE_Superintendent@NPS.gov. Please submit Internet comments as an ASCII file avoiding the use of special characters and any form of encryption. Please also include “Attn: GMP Team” and your name and return address in your Internet message. If you do not receive a confirmation from the system that we have received your Internet message, contact Superintendent Frank Deckert directly at telephone (915) 477-1101 or Management Assistant Lou Good at telephone (915) 477-1103. Finally you may hand-deliver your comments to park headquarters, Panther Junction, Big Bend National Park, Texas. Comments should be received no later than 60 days from the publication of this notice of availability. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: March 31, 2003.
Michael D. Synder,
Acting Director, Intermountain Region, National Park Service.

[FR Doc. 03-14637 Filed 6-10-03; 8:45 am]

BILLING CODE 4310-70-P